DEPARTMENT OF ENERGY

Federal Energy Regulatory Commission

Combined Notice of Filings

Take notice that the Commission has received the following Natural Gas & Oil Pipeline Rate and Refund Report filings:

Filings in Existing Proceedings

Docket Numbers: PR23-36-001.

Applicants: Enable Oklahoma Intrastate Transmission, LLC.

Description: § 284.123 Rate Filing: Enable Revised Fuel Percentages April 1, 2023-March 31, 2024 to be effective 3/8/2023.

Filed Date: 3/8/23.

Accession Number: 20230308-5051.

Comment Date: 5 p.m. ET 3/29/23.

Docket Numbers: RP20-1060-009.

Applicants: Columbia Gas Transmission, LLC.

Description: Compliance filing: Motion to Place Period 2 Settlement Rate Into Effect to be effective 4/1/2023.

Filed Date: 3/6/23.

Accession Number: 20230306-5146.

Comment Date: 5 p.m. ET 3/20/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 8, 2023.
Kimberly D. Bose,
Secretary.

[FR Doc. 2023-05159 Filed 3-13-23; 8:45 am]

BILLING CODE 6717-01-P